DEPARTMENT OF DEFENSE

Department of the Army, Corps of Engineers

Intent To Prepare a Draft Environmental Impact Statement for the Sunridge Specific Plan Projects, in Rancho Cordova, Sacramento County, CA, ID SPK-2009-00511

AGENCY: Department of the Army, U.S. Army Corps of Engineers, DOD.

ACTION: Notice of intent.

SUMMARY: The U.S. Army Corps of Engineers, Sacramento District, (Corps) will prepare a Environmental Impact Statement (EIS) for six residential development projects in the Sunridge Specific Plan area in Rancho Cordova, Sacramento County, California. The EIS is being prepared for the projects as part of ongoing litigation concerning Department of the Army permits issued by the Corps between 2005 and 2007 for five of the projects and a pending permit decision for the sixth. A stay in the litigation is in place while the Corps reevaluates the impacts of these projects through preparation of the EIS. Collectively the projects would require the filling of approximately 29.7 acres of waters of the United States, including wetlands.

ADDRESSES: Please send written comments to Michael Jewell, U.S. Army Corps of Engineers, Sacramento District, 1325 J Street, Room 1480, Sacramento, CA, 95814-2922.

FOR FURTHER INFORMATION CONTACT: Questions about the proposed action and EIS can be answered by Michael Jewell, (916) 557-6605, e-mail: michael.s.jewell@usace.army.mil.

SUPPLEMENTARY INFORMATION: The Sunridge Specific Plan area is a master-planned area consisting of nine residential and commercial developments located in eastern Rancho Cordova, Sacramento County, California. The Specific Plan, which was originally approved by the County of Sacramento in 2002, is part of a larger planning effort in the City of Rancho Cordova called the Sunrise-Douglas Community Plan. Three of the nine projects in the Sunridge Specific Plan area have been built. The proposed action is the construction of the remaining six projects in the Specific Plan area. Collectively, these six projects are referred to as the Sunridge Specific Plan Projects.

Between 2005 and 2007, the Corps completed Environmental Assessments, made Findings of No Significant Impact, and issued permits for five of the six Sunridge Specific Plan Projects. The permitted projects are Anatolia IV, Sunridge Village J, Grantline 208, Douglas Road 98, and Douglas Road 103. A permit decision has not been rendered for the sixth of the Sunridge Specific Plan Projects, Arista Del Sol.

1. Anatolia IV (ID SPK-1994-00210): The permitted project is located on a 25-acre site south of Douglas Road and adjacent to the west side of Jaeger Road. Approximately 1.36 acres of waters of the United States, including wetlands, are to be filled to construct 134 houses, several roads and other infrastructure. As compensation for the loss of waters, the permittee would construct 1.36 acres of wetland habitat. The permittee for this project is Sunridge, LLC.

2. Sunridge Village J (ID SPK-2001-00230): The permitted project is located on a 81.25-acre site in the southwest corner of the intersection formed by Douglas Road and Jaeger Road. Approximately 2.99 acres of waters of the United States, including wetlands, are to be filled to construct 369 houses, several roads and other infrastructure. As compensation for the loss of waters, the permittee would construct 3.38 acres of wetland habitat. The permittee for this project is Cresleigh Homes.

3. Grantline 208 (ID SPK 1994-00365): The permitted project is located on a 211-acre site in the southeast corner of the intersection formed by Douglas Road and Grantline Road. Approximately 5.7 acres of waters of the United States, including wetlands, are to be filled to construct 855 houses, several roads and other infrastructure. As compensation for the loss of waters, the permittee would construct 6.15 acres of wetland habitat. The permittee for this project is Grantline Investors, LLC.

4. Douglas Road 98 (ID SPK-2002-00568): The permitted project is located on a 105-acre site south of Douglas Road and adjacent to the west side of Grantline Road. Approximately 3.9 acres of waters of the United States, including wetlands, are to be filled to construct 693 houses, several roads and other infrastructure. As compensation for the loss of waters, the permittee would construct 3.9 acres of wetland habitat. The permittee for this project is Woodside Homes.

5. Douglas Road 103 (ID SPK-1997-00006): The permitted project is located on a 106-acre site adjacent to the south side of Douglas Road and west of Grantline Road. Approximately 2 acres of waters of the United States, including wetlands, are to be filled to construct 301 houses, several roads and other infrastructure. As compensation for the loss of waters, the permittee would construct 7.25 acres of wetland habitat. The permittee for this project is Douglas Grantline 103 Investors, LLC.

6. Arista Del Sol (ID SPK-2004-00458): The proposed project is located on a 210-acre site south of Douglas Road and adjacent to the west side of Grantline Road. Approximately 13.9 acres of waters of the United States, including wetlands, would be filled to construct 906 houses, several roads and other infrastructure. As compensation for the loss of waters, the permittee proposed to construct 13.9 acres of wetland habitat. The permit applicant for this project is Pappas Investments.

The EIS will include an evaluation of a reasonable range of alternatives. Currently, the following alternatives are expected to be analyzed in detail: (1) The no action alternative, (2) the proposed action (the applicants preferred projects), and (3) a reduced development footprint alternative. The no action alternative will be limited development on uplands, while avoiding all waters of the United States. A reduced development footprint alternative will involve less development with fewer impacts to waters of the United States.

The Corps' scoping process for the EIS includes a public involvement program with several opportunities to provide oral and written comments. In addition to public meetings and notifications in the Federal Register, the Corps will issue public notices when the draft and final EISs are available. Affected federal, state, and local agencies, Native American tribes, and other interested private organizations and parties are invited to participate.

Potentially significant issues to be analyzed in the EIS include, but are not limited to: Hydrology, water supply, water quality, cultural resources, biological resources, traffic and transportation, and air quality. The Corps is the lead agency for preparation of the EIS under the requirements of the National Environmental Policy Act (NEPA). The Corps has requested the U.S. Environmental Protection Agency (EPA) and U.S. Fish and Wildlife Service (USFWS) serve as cooperating agencies on the EIS. The Corps will coordinate with other agencies, such as the City of Rancho Cordova, in preparation of the EIS.

Other environmental review and consultation requirements for the proposed actions include water quality certification under Section 401 of the Clean Water Act from the California Regional Water Quality Control Board. All six of the Sunridge Specific Plans projects have received water quality certification. In addition, because the projects may affect federally-listed endangered species, the Corps was required to consult with the USFWS in accordance with Section 7 of the federal Endangered Species Act. Biological Opinions were issued by the USFWS for all six projects.

Two public scoping meetings for the EIS will be held on July 30, 2009, with the first from 5 p.m. to 6 p.m. and the second from 7 p.m. to 8 p.m. The meetings will be held at the Rancho Cordova City Hall, 2729 Prospect Park Drive, American River Room—South, Rancho Cordova, CA 95670. Interested parties can provide oral and written comments at the meetings. Scoping comments should be submitted before August 31, 2009 but may be submitted at any time prior to publication of the Draft EIS.

Interested parties may register for the Corps' public notice email notification lists at: http://www.spk.usace.army.mil/organizations/cespk-co/regulatory/pnlist.html.

Dated: July 9, 2009
James A. Porter,
Lt. Colonel, Corps of Engineers, Acting District Engineer.

[FR Doc. E9-17159 Filed 7-17-09; 8:45 am]

BILLING CODE 3720-58-P